DEPARTMENT OF COMMERCE

International Trade Administration

[A-533-865]

Certain Cold-Rolled Steel Flat Products From India: Rescission of Antidumping Duty Administrative Review; 2016-2017

AGENCY: Enforcement and Compliance, International Trade Administration, Department of Commerce.

SUMMARY: The Department of Commerce (Commerce) is rescinding the administrative review of the antidumping duty order on certain cold-rolled steel flat products (cold-rolled steel) from India for the period of review (POR) March 7, 2016, through August 31, 2017.

DATES: Applicable March 28, 2018.

FOR FURTHER INFORMATION CONTACT: Aleksandras Nakutis or Drew Jackson, AD/CVD Operations, Office IV, Enforcement and Compliance, International Trade Administration, U.S. Department of Commerce, 1401 Constitution Avenue NW, Washington, DC 20230; telephone: (202) 482-3147 or (202) 482-4406, respectively.

SUPPLEMENTARY INFORMATION:

Background

On September 1, 2017, Commerce published in the Federal Register a notice of opportunity to request an administrative review of the antidumping duty order on cold-rolled steel from India for the POR March 7, 2016, through August 31, 2017.¹ On September 29, 2017, in accordance with section 751(a) of the Tariff Act of 1930, as amended (the Act), and 19 CFR 351.213(b), AK Steel Corporation, ArcelorMittal USA LLC, Nucor Corporation, Steel Dynamics, Inc., and United States Steel Corporation (collectively, domestic interested parties), requested a review of the order with respect to 52 companies or company groupings.² On November 13, 2017, in accordance with section 751(a) of the Act and 19 CFR 351.221(c)(1)(i), Commerce initiated an administrative review of the antidumping duty order on cold-rolled steel from India with respect to these companies.³ On February 12, 2018, domestic interested parties timely withdrew their request for an administrative review of all companies named in their September 29, 2017, Administrative Review Request.⁴ No other party requested a review.

¹ See Antidumping or Countervailing Duty Order, Finding, or Suspended Investigation; Opportunity to Request Administrative Review, 82 FR 41595 (September 1, 2017).

² See letter, “Cold-Rolled Steel Flat Products from India: Request for Administrative Review,” dated September 29, 2017 (September 29, 2017, Administrative Review Request).

³ See Initiation of Antidumping and Countervailing Duty Administrative Reviews, 82 FR 52268 (November 13, 2017).

⁴ See letter, “Cold-Rolled Steel Flat Products from India: Withdrawal of Administrative Review Request,” dated February 12, 2018.

Commerce exercised its discretion to toll all deadlines affected by the closure of the Federal Government from January 20 through 22, 2018. If the new deadline falls on a non-business day, in accordance with Commerce's practice, the deadline will become the next business day.⁵

⁵ See Memorandum for The Record from Christian Marsh, Deputy Assistant Secretary for Enforcement and Compliance, performing the non-exclusive functions and duties of the Assistant Secretary for Enforcement and Compliance, “Deadlines Affected by the Shutdown of the Federal Government” (Tolling Memorandum), dated January 23, 2018. All deadlines in this segment of the proceeding have been extended by 3 days.

Rescission of Review

Pursuant to 19 CFR 351.213(d)(1), Commerce will rescind an administrative review, in whole or in part, if the party that requested the review withdraws its request within 90 days of the publication date of the notice of initiation of the requested review. Domestic interested parties withdrew their request for review within the 90-day deadline. Because Commerce received no other requests for review of the above-referenced 52 companies, and no other requests were made for a review of the antidumping duty order on cold-rolled steel from India with respect to other companies, we are rescinding the administrative review covering the period March 7, 2016, through August 31, 2017, in full, in accordance with 19 CFR 351.213(d)(1).

Assessment

Commerce will instruct U.S. Customs and Border Protection (CBP) to assess antidumping duties on all appropriate entries of cold-rolled steel from India during the POR at rates equal to the cash deposit rate for estimated antidumping duties required at the time of entry, or withdrawal from warehouse, for consumption, in accordance with 19 CFR 351.212(c)(1)(i). Commerce intends to issue appropriate assessment instructions to CBP 15 days after the date of publication of this notice in the Federal Register.

Notification to Importers

This notice serves as the only reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

Notification Regarding Administrative Protective Order

This notice also serves as the only reminder to parties subject to administrative protective orders (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

This notice is issued and published in accordance with sections 751(a)(1) and 777(i)(1) of the Act and 19 CFR 351.213(d)(4).

Dated: March 22, 2018.
James Maeder,
Associate Deputy Assistant Secretary for Antidumping and Countervailing Duty Operations, performing the duties of Deputy Assistant Secretary for Antidumping and Countervailing Duty Operations.

[FR Doc. 2018-06208 Filed 3-27-18; 8:45 am]

BILLING CODE 3510-DS-P